DEPARTMENT OF AGRICULTURE

Submission for OMB Review; Comment Request

March 8, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 12, 2018 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Third National Survey of WIC Participants (NSWP-III).

OMB Control Number: 0584—New.

Summary of Collection: The Third National Survey of WIC Participants (NSWP-III) is designed to provide nationally representative estimates of improper payments in the Special Supplemental Program for Women, Infants, and Children (WIC) arising from errors in the certification or denial of WIC applicants, to investigate potential State and local agency characteristics that may correlate with these errors, and to assess WIC participants' reasons for satisfaction or dissatisfaction with the program. The NSWP-III builds on three previous studies and reports spanning several decades. The Improper Payments Elimination and Recovery Improvement Act (IPERIA) of 2012 (P.L. 112-248); 2009 Executive Order 13520—Reducing Improper Payments; the Office of Inspector General (OIG) USDA FY 2014 Compliance with Improper Payments Requirements; and the Requirements for Effective Estimation and Remediation of Improper Payments set forth the priority, mandate, and requirements for the Food and Nutrition Service to identify, estimate, and reduce erroneous payments in WIC.

Need and use of the Information: The NSWP-III will collect data from state and local WIC agency directors, current and former WIC program participants, and recently denied WIC program participants. The surveys for the state and local WIC agency directors are mandatory, while the surveys for the WIC program participants are voluntary. The NSWP-III has two purposes: (1) To obtain the data necessary to accomplish the study objectives noted above and (2) to pilot a new methodology for future annual estimates of improper payments in the WIC program.

Description of Respondents: State, Local, or Tribal Government; Individuals or Households.

Number of Respondents: 6,588.

Frequency of Responses: Reporting: On Occasion.

Total Burden Hours: 5,110.

Ruth Brown,
Departmental Information Collection Clearance Officer.

[FR Doc. 2018-04982 Filed 3-12-18; 8:45 am]

BILLING CODE 3410-30-P